DEPARTMENT OF COMMERCE

Bureau of Industry and Security

15 CFR Part 744

[Docket No. 211117-0236]

RIN 0694-AI60

Addition of Entities and Revision of Entries on the Entity List; and Addition of Entity to the Military End-User (MEU) List

AGENCY: Bureau of Industry and Security, Commerce.

ACTION: Final rule.

SUMMARY: In this final rule, the Bureau of Industry and Security (BIS) amends the Export Administration Regulations (EAR) by adding twenty-seven entities to the Entity List. These twenty-seven entities have been determined by the U.S. Government to be acting contrary to the national security or foreign policy interests of the United States. These entities will be listed on the Entity List under the destinations of the People's Republic of China (China), Japan, Pakistan, and Singapore. This rule also revises one existing entry on the Entity List under the destination of China, adds addresses under the destination of Taiwan for a listed entity, and corrects an entry under the destination of China. In addition, this rule amends the EAR by adding one entity to the Military End-User (MEU) List under the destination of Russia.

DATES: This rule is effective November 26, 2021.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (supplement no. 4 to part 744 of the EAR) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License Review Policy” column on the Entity List, and the impact on the availability of license exceptions is described in the relevant Federal Register document adding entities to the Entity List. BIS places entities on the Entity List pursuant to part 744 (Control Policy: End-User and End-Use Based) and part 746 (Embargoes and Other Special Controls) of the EAR.

The MEU List (supplement no. 7 to part 744 of the EAR) identifies entities that have been determined by the End-User Review Committee (ERC) to be `military end users' pursuant to § 744.21 of the EAR. That section imposes additional license requirements on, and limits the availability of most license exceptions for, exports, reexports, and transfers (in-country) to listed entities on the MEU List, as specified in supplement no. 7 to part 744 and in § 744.21 of the EAR. Entities are listed on the MEU List under the destinations of Burma, China, Russia, or Venezuela. The license review policy for each listed entity is identified in the introductory text of the MEU List (supplement no. 7 to part 744) and in § 744.21(e) of the EAR. The MEU List's introductory text and § 744.21 of the EAR also specify the scope of the license requirements and limitations on the use of EAR license exceptions.

The ERC, composed of representatives of the Departments of Commerce (Chair), State, Defense, Energy and, where appropriate, the Treasury, makes all decisions regarding additions to, removals from, or other modifications to the Entity List and the MEU List. The ERC makes all decisions to add an entry to the Entity List and MEU List by majority vote and all decisions to remove or modify an entry by unanimous vote.

Entity List Decisions

A. Additions to the Entity List

Under § 744.11(b) (Criteria for revising the Entity List) of the EAR, entities for which there is reasonable cause to believe, based on specific and articulable facts, that the entities have been involved, are involved, or pose a significant risk of being or becoming involved in activities that are contrary to the national security or foreign policy interests of the United States, and those acting on behalf of such entities, may be added to the Entity List. Paragraphs (b)(1) through (5) of § 744.11 provide an illustrative list of activities that could be considered contrary to the national security or foreign policy interests of the United States.

This rule implements the decision of the ERC to add twenty-seven entities to the Entity List. These twenty-seven entities will be listed on the Entity List under the destinations of China, Japan, Pakistan, and Singapore. The ERC made the decision to add the twenty-seven entities identified below under the standard set forth in § 744.11(b) of the EAR.

Specifically, the ERC decided to add three affiliates of Corad Technology Limited, an entity added to the Entity List under China (with a Hong Kong address) on August 14, 2019 (84 FR 40241), as follows: One affiliate in China (Corad Technology (Shenzhen) Ltd.); one affiliate in Singapore (Corad Technology Pte Ltd.); and one affiliate in Japan (Corad Technology Japan K.K.). These three affiliates of Corad Technology Limited have been involved in sales of technology from the United States and other Western nations to Iran's military and space programs, Democratic People's Republic of Korea (North Korea) front companies, and Chinese government and defense industry subordinate entities. BIS is also adding a reference under Taiwan to one of Corad Technology Limited's offices, the Corad Taiwan Representative Office, which has also been involved in such technology sales. Identifying the office in this manner provides notice to the public that the office is subject to the Entity List licensing requirements that apply to Corad Technology Limited. BIS is also making a conforming change to the entry for Corad Technology Limited located in Hong Kong that directs the public to the two addresses for the Corad Taiwan Representative Office in Taiwan.

The ERC decided to add the following five entities: Hangzhou Zhongke Microelectronics Co., Ltd., Hunan Goke Microelectronics, New H3C Semiconductor Technologies Co., Ltd., Xi'an Aerospace Huaxun Technology, and Yunchip Microelectronics, all located in China, for their support of the military modernization of the People's Liberation Army.

The ERC decided to add three entities in China (Hefei National Laboratory for Physical Sciences at Microscale, QuantumCTek Co., and Shanghai QuantumCTeck Co., Ltd.) to the Entity List for acquiring and attempting to acquire U.S.-origin items in support of military applications.

The ERC decided to add Shaanxi Zhi En Electromechanical Technology Co., Ltd. located in China; and Q&N Traders, U.H.L. Company, Jiuding Refrigeration & Air-conditioning Equipment Co (Pvt) Ltd, K-SOFT Enterprises, Seljuk Traders (SMC-Private) Limited, Global Tech Engineers, Asay Trade & Supplies, and Jade Machinery Pvt. Ltd., all located in Pakistan, to the Entity List based on their contributions to Pakistan's unsafeguarded nuclear activities.

The ERC decided to add Poly Asia Pacific Ltd. (PAPL) and Peaktek Company Ltd., both entities located in China, to the Entity List based on its contributions to Pakistan's unsafeguarded nuclear activities. The ERC also decided to add Al-Qertas, located in Pakistan, to the Entity List based on their contributions to Pakistan's unsafeguarded nuclear activities.

The ERC decided to add Broad Engineering located in Pakistan to the Entity List based on its contributions to Pakistan's ballistic missile program.

The ERC decided to add Prime Tech, located in Pakistan, and two of its employees, Muhammad Ashraf and Muhammad Farrukh, also located in Pakistan, to the Entity List for procuring items subject to the EAR on behalf of Techlinks, an entity located in Pakistan that was added to the Entity List in September 2018, without the licenses required by § 744.11(a) of the EAR. See 83 FR 44824 (September 4, 2018; 84 FR 61538 (November 13, 2019)).

Pursuant to § 744.11(b) of the EAR, the ERC determined that the conduct of the above-described twenty-seven entities raises sufficient concerns that prior review, via the imposition of a license requirement for exports, reexports, or transfers (in-country) of all items subject to the EAR involving these twenty-seven entities, is appropriate. The ERC also determined that the possible issuance of license denials or the possible imposition of license conditions on shipments to these entities will enhance BIS's ability to prevent violations of the EAR or otherwise protect U.S. national security or foreign policy interests.

For the twenty-seven entities added to the Entity List in this final rule described under this section, Section A, Additions to the Entity List, BIS imposes a license requirement that applies to all items subject to the EAR. In addition, no license exceptions are available for exports, reexports, or transfers (in-country) to the persons being added to the Entity List in this rule. BIS imposes a license review policy of a presumption of denial for these twenty-seven entities.

For the reasons described above, this final rule adds the following twenty-seven entities to the Entity List:

China

• Corad Technology (Shenzhen) Ltd.;

• Hangzhou Zhongke Microelectronics Co., Ltd.;

• Hefei National Laboratory for Physical Sciences at Microscale;

• Hunan Goke Microelectronics;

• New H3C Semiconductor Technologies Co., Ltd.;

• Peaktek Company Ltd.;

• Poly Asia Pacific Ltd., (PAPL);

• QuantumCTek Co., Ltd.;

• Shaanxi Zhi En Electromechanical Technology Co., Ltd.;

• Shanghai QuantumCTek Co., Ltd.;

• Xi'an Aerospace Huaxun Technology; and

• Yunchip Microelectronics.

Japan

• Corad Technology Japan K.K.

Pakistan

• Al-Qertas;

• Asay Trade & Supplies;

• Broad Engineering (Pakistan);

• Global Tech Engineers;

• Jade Machinery Pvt. Ltd.;

• Jiuding Refrigeration & Air-conditioning Equipment Co (Pvt) Ltd.;

• K-SOFT Enterprises;

• Muhammad Ashraf;

• Muhammad Farrukh;

• Prime Tech;

• Q&N Traders;

• Seljuk Traders (SMC-Private) Limited; and

• U.H.L. Company.

Singapore

• Corad Technology Pte Ltd.

The acronym “a.k.a.,” which is an abbreviation of “also known as,” is used in entries on the Entity List to identify aliases, thereby assisting exporters, reexporters, and transferors in identifying entities on the Entity List.

B. Revision to the Entity List

This rule implements a modification to one existing entry for “Corad Technology Limited,” first added to the Entity List under the destination of China on August 14, 2019 (84 FR 40241 (August 14, 2019)). Specifically, this rule modifies the entry for this entity by adding a parenthetical sentence that directs the public to the Corad Taiwan Representative Office's addresses in Taiwan. This rule also revises the Entity List under Taiwan to add a reference to the Corad Taiwan Representative office and its addresses.

C. Correction to the Entity List

This rule implements a correction to one existing entry on the Entity List under the destination of China. The correction is to the entity “Shenzhen Cobber Information Technology Co., Ltd.” This entity was added to the Entity List on July 12, 2021 (86 FR 36499 (July 12, 2021)) (“the July 12 rule”). The July 12 rule inadvertently included a semicolon in the middle of one of the six aliases, “Shenzhen Kehao Information; Technology Co., Ltd.,” thereby raising a question as to the name of this alias and whether BIS intended to list two separate aliases. This rule removes the semicolon from this alias, resulting in the corrected name, “Shenzhen Kehao Information Technology Co., Ltd.,” and clarifying that BIS listed only six aliases in total.

ERC MEU List Decision

Addition to the MEU List

Under § 744.21(b) of the EAR, BIS may inform persons either individually by specific notice, through amendment to the EAR published in the Federal Register, or through a separate notice published in the Federal Register, that a license is required for specific exports, reexports, or transfers (in-country) of any item because there is an unacceptable risk of use in or diversion to a `military end use' or `military end user' in Burma, China, Russia, or Venezuela. Under § 744.21(b)(1) of the EAR, BIS may identify entities subject to this additional prohibition under paragraph (b) that have been determined by the ERC to be a `military end user' pursuant to § 744.21. These entities will be added to supplement no. 7 to part 744 (`Military End-User' (MEU) List) in Federal Register notices published by BIS.

This rule implements the decision of the ERC to add one entity to the MEU List. This entity, the Moscow Institute of Physics and Technology, will be listed on the MEU List under the destination of Russia. The ERC made the decision to add this entity under the standard set forth in § 744.21 of the EAR, including the criteria for what constitutes a `military end use' under paragraph (f) and `military end user' under paragraph (g). Specifically, the ERC determined to add the entity on the basis of its production of military end-use products for a military end-user.

The license requirement for this entity applies to the export, reexport, or transfer (in-country) of any item subject to the EAR listed in supplement no. 2 to part 744. For this entity, BIS imposes a license review policy of a presumption of denial as set forth in § 744.21(e) of the EAR.

No license exceptions apart from License Exception GOV (items authorized under § 740.11(b)(2)(i) and (ii) of the EAR) are available for exports, reexports, or transfers (in-country) to listed entities on the MEU List for items specified in supplement no. 2 to part 744.

The acronym “a.k.a.,” which is an abbreviation of “also known as,” is used in entries on the MEU List to identify aliases, thereby assisting exporters, reexporters, and transferors in identifying entities on the MEU List.

For the reasons described above, this rule adds the following one entity to the MEU List:

Russia

• Moscow Institute of Physics and Technology.

Savings Clause

Shipments of items removed from eligibility for a License Exception or export, reexport, or transfer (in-country) without a license (NLR) as a result of this regulatory action that were en route aboard a carrier to a port of export, reexport, or transfer (in-country), on November 26, 2021, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 29.6 minutes for a manual or electronic submission. Total burden hours associated with the PRA and OMB control number 0694-0088 are not expected to increase as a result of this rule.

3. This rule does not contain policies with federalism implications as that term is defined in Executive Order 13132.

4. Pursuant to section 1762 of ECRA (see 50 U.S.C. 4821), this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under CHINA, PEOPLE'S REPUBLIC OF:

i. By revising the entry for “Corad Technology Limited”;

ii. By adding in alphabetical order entries for “Corad Technology (Shenzhen) Ltd.,” “Hangzhou Zhongke Microelectronics Co., Ltd.,” “Hefei National Laboratory for Physical Sciences at Microscale,” “Hunan Goke Microelectronics,” “New H3C Semiconductor Technologies Co., Ltd.,” “Peaktek Company Ltd.,” “Poly Asia Pacific Ltd., (PAPL),” “QuantumCTek Co., Ltd.,” “Shaanxi Zhi En Electromechanical Technology Co., Ltd.,” and “Shanghai QuantumCTek Co., Ltd.”;

iii. By revising the entry for “Shenzhen Cobber Information Technology Co., Ltd.”; and

iv. By adding in alphabetical order entries for “Xi'an Aerospace Huaxun Technology” and “Yunchip Microelectronics”;

b. Under JAPAN, by adding in alphabetical order, an entry for “Corad Technology Japan K.K.;”

c. Under PAKISTAN, by adding in alphabetical order, entries for “Al-Qertas,” “Asay Trade & Supplies,” “Broad Engineering (Pakistan),” “Global Tech Engineers,” “Jade Machinery Pvt. Ltd.,” “Jiuding Refrigeration & Air-conditioning Equipment Co (Pvt) Ltd.,” “K-SOFT Enterprises,” “Muhammad Ashraf,” “Muhammad Farrukh,” “Prime Tech,” “Q&N Traders,” “Seljuk Traders (SMC-Private) Limited,” and “U.H.L. Company”;

d. Under SINGAPORE, by adding in alphabetical order, entry for “Corad Technology Pte Ltd.”; and

e. Under TAIWAN, by adding in alphabetical order, an entry for “Corad Taiwan Representative Office.”

The additions and revisions read as follows:

Supplement No. 4 to Part 744—Entity List

* * * * *

Country | Entity | License requirement | License review policy | Federal Register citation
* * * * * * *
CHINA, PEOPLE'S REPUBLIC OF | * * * * * *
| Corad Technology Limited, a.k.a., the following one alias: —Corad Technology (China) Limited. Unit 1306, 13/F, Nanyang Plaza 57 Hung To Road Kwun Tong, Hong Kong; and Room K, 5/F, Winner Factory Building No. 55 Hung To Road Kwun Tong Kowloon, Hong Kong. (See also addresses under Taiwan for this entry, which is listed as Corad Taiwan Representative Office). | All items subject to the EAR. (See § 744.11 of the EAR). | Presumption of denial | 84 FR 40241, 8/14/19, 85 FR 83769, 12/23/20. 86 FR [INSERT FR PAGE NUMBER] 11/26/21.
| Corad Technology (Shenzhen) Ltd., a.k.a., the following one alias: —Corad Technology Ltd. (Shenzhen). | All items subject to the EAR. (See § 744.11 of the EAR). | Presumption of denial | 86 FR [INSERT FR PAGE NUMBER] 11/26/21.
| Rm 0919 1# Xinye Bldg, NO388 Tianlin Road, Shanghai, China 518033.
| * * * * * *
| Hangzhou Zhongke Microelectronics Co., Ltd., 10th Floor, Chuangxin Building, No. 3850 Jiangnan Ave., High-Tech Binjiang District, Hangzhou City, Zhejiang Province, China. | All items subject to the EAR. (See § 744.11 of the EAR). | Presumption of denial | 86 FR [INSERT FR PAGE NUMBER] 11/26/21.
| * * * * * *
| Hefei National Laboratory for Physical Sciences at Microscale, a.k.a., the following two aliases: | All items subject to the EAR. (See § 744.11 of the EAR). | Presumption of denial | 86 FR [INSERT FR PAGE NUMBER] 11/26/21.
| —National Research Center for Microscale; and
| —Microscale National Research Center.
| No. 96, Jinzhai Road, Hefei National Laboratory for Physical Sciences at the Microscale, University of Science & Technology of China, Hefei, Anhui, 230026 China. |
| * * * * * *
| Hunan Goke Microelectronics, a.k.a., the following two aliases: —Hunan Guoke Microelectronics; and | All items subject to the EAR. (See § 744.11 of the EAR). | Presumption of denial | 86 FR [INSERT FR PAGE NUMBER] 11/26/21.
| —Guokewei.
| No. 9, South Section of Dongshi Road, Quantang Street, Changsha Economic and, Technological Development Zone, China; and, Room 812, 8th Floor, No. 1, No. 26 Jiannei Street, Dongcheng District, Beijing, China, and, 1305-1308, Building 1, Xunmei Technology Plaza, No. 8, Keyuan Road, Shenzhen, China.
| * * * * * *
| New H3C Semiconductor Technologies Co., Ltd., No. 1, Floor 1, Unit 1, Building 4, No. 219, Tianhua 2nd Rd., Chengdu High-Tech Zone, China (Sichuan) Pilot Free Trade Zone, China; and Beijing Branch—Room 401, 4th Floor, Building 1, No. 8 Yard, Yongjia North Road, Haidian District, Beijing, China; and Shanghai Branch—No. 666 Shengxia Rd., 122 Yindong Rd., China (Shanghai) Pilot Free Trade Zone, China. | All items subject to the EAR. (See § 744.11 of the EAR). | Presumption of denial | 86 FR [INSERT FR PAGE NUMBER] 11/26/21.
| * * * * * *
| Peaktek Company Ltd., Room 803, Chevalier Building, 45-51 Chatham Road, South Kowloon, Hong Kong. | All items subject to the EAR. (See § 744.11 of the EAR). | Presumption of denial | 86 FR [INSERT FR PAGE NUMBER] 11/26/21.
| * * * * * *
| Poly Asia Pacific Ltd., (PAPL), a.k.a., the following alias: —Beijing Oriental Vision Petroleum Technology Company Limited (OVTEK-P). | All items subject to the EAR. (See § 744.11 of the EAR). | Presumption of denial | 86 FR [INSERT FR PAGE NUMBER] 11/26/21.
| Room 1103, Hang Seng Mongkok Building, 677 Nathan Road, Mongkok, Kowloon Hong Kong; and
| Suite 803, Tower A. Olympic City, Fortune Centre, Beiyuan Road, Chaoyan, District Beijing, China.
| * * * * * *
| QuantumCTek Co., Ltd., a.k.a., the following four aliases: —HKUST National Shield Quantum Technology Co., Ltd.; | All items subject to the EAR. (See § 744.11 of the EAR). | Presumption of denial | 86 FR [INSERT FR PAGE NUMBER] 11/26/21.
| —HKUST Guodun Quantum Technology Co., Ltd.;
| —National Shield Quantum; and
| —Anhui Quantum Communication Technology Co., Ltd.
| Floor 1, 3, 4, 5, 6, 7 of Building D3, 800 Wangjiang West Road, High-tech Zone, Hefei, Anhui, 230088, China.
| * * * * * *
| Shaanxi Zhi En Electromechanical Technology Co., Ltd., Room 11905, Floor 19, Building 1, Daminggong, Wanda Plaza, Taihua North Road, Weiyang District, Xian City, Shaanxi Province, China. | All items subject to the EAR. (See § 744.11 of the EAR). | Presumption of denial | 86 FR [INSERT FR PAGE NUMBER] 11/26/21.
| * * * * * **
| Shanghai QuantumCTek Co., Ltd., a.k.a., the following one alias: —Shanghai Guodun Quantum Information Technology Co., Ltd., | All items subject to the EAR. (See § 744.11 of the EAR). | Presumption of denial | 86 FR [INSERT FR PAGE NUMBER] 11/26/21.
| 3rd Floor, Building 10, 2388 Xiupu Road, Pudong New Area, Shanghai, 201315, China; and 99 Xiupu Road, Pudong New Area, Shanghai 201206, China.
| * * * * * *
| Shenzhen Cobber Information Technology Co., Ltd., a.k.a., the following six aliases: —X-Face; —XFaceTech; —Shenzhen Kehao Information Technology Co., Ltd.; —Shenzhen Kepa Information Technology; —Kezhen; and —Cobber. 6th Floor, Block B, Shenzhen Production and Research Base, Huazhong University of Science and Technology, No. 9 Yuexing 3rd Road, Nanshan District, Shenzhen, Shenzhen, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 86 FR 36499, 7/12/21. 86 FR [INSERT FR PAGE NUMBER] 11/26/21.
| * * * * * *
| Xi'an Aerospace Huaxun Technology, a.k.a., the following one alias: —Aerospace Huaxun. | All items subject to the EAR. (See § 744.11 of the EAR). | Presumption of denial | 86 FR [INSERT FR PAGE NUMBER] 11/26/21.
| 10th Floor, Block C, Xi'an National Digital Publishing Base, No. 996 Tiangu 7th Road, Yuhua Street Office, High-Tech Zone, Xi'an, China; and 3F, Huihao International, No. 58, Keji 2rd Road, High-Tech Zone, Xi'an City, Shaanxi, Province 710075, China; and No. 1061-1, Section 1, East Second Ring, Hehuayuan St., Furong District, Changsha City, Hunan Province, China.
| * * * * * *
| Yunchip Microelectronics, a.k.a., the following one alias: —Suzhou Yunxin Microelectronics Technology. | All items subject to the EAR. (See § 744.11 of the EAR). | Presumption of denial | 86 FR [INSERT FR PAGE NUMBER] 11/26/21.
| Kunshan Huaqiao town double International Business Center, Building 40 Room 7-8, chamber 41, chamber 42, China; and 6th Floor, Building 7, Shuanglian International Business Center, 1255 Shangyin Road, Huaqiao, Kunshan City, Jiangsu Province, China.
| * * * * * *
* * * * * * *
JAPAN | Corad Technology Japan K.K., 1-1 Tsunaskimakamicho, Kohoku-Ku, Yokohama 223-0055 Japan. | All items subject to the EAR. (See § 744.11 of the EAR). | Presumption of denial | 86 FR [INSERT FR PAGE NUMBER] 11/26/21.
| * * * * * *
* * * * * * *
PAKISTAN | * * * * * *
| Al-Qertas, 794 Park Lane, Chaklala Scheme-III, Rawalpindi, Pakistan. | All items subject to the EAR. (See § 744.11 of the EAR). | Presumption of denial | 86 FR [INSERT FR PAGE NUMBER] 11/26/21.
| * * * * * *
| Asay Trade & Supplies, 6, Nafees Market, A-87 Road, Rawalpindi, Pakistan. | All items subject to the EAR. (See § 744.11 of the EAR). | Presumption of denial | 86 FR [INSERT FR PAGE NUMBER] 11/26/21.
| * * * * * *
| Broad Engineering (Pakistan), House 130, Street No. 109, G-11/3, Islamabad, Pakistan. | All items subject to the EAR. (See § 744.11 of the EAR). | Presumption of denial | 86 FR [INSERT FR PAGE NUMBER] 11/26/21.
| * * * * * *
| Global Tech Engineers, Office Number 1, 1st Floor, Al Mairaj Center Street Number 1, Sector G-11/1, Islamabad, Pakistan. | All items subject to the EAR. (See § 744.11 of the EAR). | Presumption of denial | 86 FR [INSERT FR PAGE NUMBER] 11/26/21.
| * * * * * *
| Jade Machinery Pvt. Ltd., 109-A, St # 4 Cavalry Ground, Lahore, Punjab 54000, Pakistan. | All items subject to the EAR. (See § 744.11 of the EAR). | Presumption of denial | 86 FR [INSERT FR PAGE NUMBER] 11/26/21.
| * * * * * *
| Jiuding Refrigeration & Air-conditioning Equipment Co (Pvt) Ltd., 107 Sughra Tower, F-11 Markaz Islamabad, Pakistan. | All items subject to the EAR. (See § 744.11 of the EAR). | Presumption of denial | 86 FR [INSERT FR PAGE NUMBER] 11/26/21.
| * * * * * *
| K-SOFT Enterprises, Office No. 10, First Floor, Al-Hafeez Tower, MM Alam Road, Gulberg, Lahore, Pakistan. | All items subject to the EAR. (See § 744.11 of the EAR). | Presumption of denial | 86 FR [INSERT FR PAGE NUMBER] 11/26/21.
| * * * * * *
| Muhammad Ashraf, Office No. 11, 1st., Floor MICCOP Center, 1-Mozang Road, Lahore-54000, Pakistan; and 699 Khayaban-e-Suhrwardy, Abpara Market, Islamabad 44000 Pakistan. | All items subject to the EAR. (See § 744.11 of the EAR). | Presumption of denial | 86 FR [INSERT FR PAGE NUMBER] 11/26/21.
| Muhammad Farrukh, Office No. 11, 1st., Floor MICCOP Center, 1-Mozang Road, Lahore-54000, Pakistan. | All items subject to the EAR. (See § 744.11 of the EAR). | Presumption of denial | 86 FR [INSERT FR PAGE NUMBER] 11/26/21.
| * * * * * *
| Prime Tech, Office No. 11, 1st., Floor MICCOP Center, 1-Mozang Road, Lahore-54000, Pakistan; and 699 Khayaban-e-Suhrwardy, Abpara Market, Islamabad 44000 Pakistan. | All items subject to the EAR. (See § 744.11 of the EAR). | Presumption of denial | 86 FR [INSERT FR PAGE NUMBER] 11/26/21.
| * * * * * *
| Q&N Traders, Office 1, Flat 2, Anjum Plaza, Near TCS Centre, New Mall Chowk, Bahria Enclave Road, Islamabad, Pakistan. | All items subject to the EAR. (See § 744.11 of the EAR). | Presumption of denial | 86 FR [INSERT FR PAGE NUMBER] 11/26/21.
| * * * * * *
| Seljuk Traders (SMC-Private) Limited, Ch. Zakir House, Main Tamma Road, Next to Jinnah Muslim Law College, P.O. Tarlai Kalan Islamabad, 45550, Pakistan. | All items subject to the EAR. (See § 744.11 of the EAR). | Presumption of denial | 86 FR [INSERT FR PAGE NUMBER] 11/26/21.
| * * * * * *
| U.H.L. Company, 8/35 Arkay Square, Sharah-e-Liaquat, New Chali, Karachi, Pakistan. | All items subject to the EAR. (See § 744.11 of the EAR). | Presumption of denial | 86 FR [INSERT FR PAGE NUMBER] 11/26/21.
| * * * * * *
* * * * * * *
SINGAPORE | * * * * * *
| Corad Technology Pte Ltd., 10 UBI Crescent, #04-43 UBI TechPark, Singapore, 408564; and 11 Kallang Pl, 03-04, Whampoa, Singapore. | All items subject to the EAR. (See § 744.11 of the EAR). | Presumption of denial | 86 FR [INSERT FR PAGE NUMBER] 11/26/21.
| * * * * * *
* * * * * * *
TAIWAN | * * * * * *
| Corad Taiwan Representative Office, 1A, No. 30 Jiazheng 9th St., Zhubei City, Hsinchu County 30274; and 3F-1, No. 1008, Sec. 4, Johngsing Rd., Jhudong Township, Hsinchu County, 310 Taiwan. (See also addresses under China for this entry, which is listed as Corad Technology Limited). | All items subject to the EAR. (See § 744.11 of the EAR). | Presumption of denial | 86 FR [INSERT FR PAGE NUMBER] 11/26/21.
| * * * * * *
* * * * * * *

* * * * *

3. Supplement No. 7 to part 744 is amended under RUSSIA by adding in alphabetical order an entry for “Moscow Institute of Physics and Technology” to read as follows:

Supplement No. 7 to Part 744—“Military End-User” (MEU) List

* * * * *

Country | Entity | Federal Register citation
* * * * * * *
RUSSIA | * * * * * *
| Moscow Institute of Physics and Technology, a.k.a., the following two aliases: —MIPT; and —MFTI | 86 FR [INSERT FR PAGE NUMBER] 11/26/21.
| Dolgoprudny Campus: 9 Institutskiy per., Dolgoprudny, Moscow Region 141701, Russia; and
| Zhukovsky Campus: Ulitsa Gagarina 16, Zhukovsky, Moscow Region 140180, Russia; and Moscow Campus 1 Stroyeniye 1, Klimentovsky Pereulok, Moscow Region 115184, Russia
| * * * * * *
* * * * * * *

Matthew S. Borman,
Deputy Assistant Secretary for Export Administration.

[FR Doc. 2021-25808 Filed 11-24-21; 8:45 am]

BILLING CODE 3510-33-P